DEPARTMENT OF DEFENSE

GENERAL SERVICES ADMINISTRATION

NATIONAL AERONAUTICS AND SPACE ADMINISTRATION

48 CFR Chapter 1

[Docket No. FAR 2019-0002, Sequence No. 3]

Federal Acquisition Regulation; Federal Acquisition Circular 2019-04; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2019-04, which amends the Federal Acquisition Regulation (FAR). An asterisk (*) next to a rule indicates that a regulatory flexibility analysis has been prepared. Interested parties may obtain further information regarding these rules by referring to FAC 2019-04, which precedes this document. These documents are also available via the internet at http://www.regulations.gov.

DATES: August 7, 2019.

FOR FURTHER INFORMATION CONTACT: For clarification of content, contact the analyst whose name appears in the table below. Please cite FAC 2019-04 and the FAR Case number. For information pertaining to status or publication schedules, contact the Regulatory Secretariat Division at 202-501-4755.

Rules Listed in FAC 2019-04
Item | Subject | FAR case | Analyst
I * | Ombudsman for Indefinite-Delivery Contracts | 2017-020 | Jackson.
II | Technical Amendments

SUPPLEMENTARY INFORMATION: Summaries for each FAR rule follow. For the actual revisions and/or amendments made by these rules, refer to the specific item numbers and subjects set forth in the documents following these item summaries. FAC 2019-04 amends the FAR as follows:

Item I—Ombudsman for Indefinite-Delivery Contracts (FAR Case 2017-020)

DoD, GSA, and NASA are issuing a final rule amending the Federal Acquisition Regulation (FAR) to implement a new clause for use in multiple-award indefinite-delivery indefinite-quantity (IDIQ) contracts that identifies the agency task-order and delivery-order ombudsman's responsibilities and contact information. This rule implements a standardized method to provide the requisite information to contractors via a single contract clause for use by all agencies. This rule intends to minimize the impact on contractors resulting from the variety of ways in which task-order and delivery-order ombudsman information is communicated by agencies.

Item II—Technical Amendments

Editorial changes are made at FAR 1.201-1 and 52.246-21.

Janet M. Fry,
Director, Federal Acquisition Policy Division, Office of Government-wide Policy.

[FR Doc. 2019-16408 Filed 8-6-19; 8:45 am]

BILLING CODE 6820-EP-P